DEPARTMENT OF DEFENSE

Department of the Army, Corps of Engineers

Withdrawal of Preparation of a Draft Environmental Impact Statement (DEIS) for the Upper North Branch Potomac Environmental Resources Study Draft Integrated Feasibility Report and Environmental Impact Statement

AGENCY: U.S. Army Corps of Engineers, DoD.

ACTION: Notice of withdrawal.

SUMMARY: The U.S. Army Corps of Engineers, Baltimore District (Corps), is withdrawing its intent to prepare a DEIS for environmental restoration in the Upper North Branch Potomac watershed, Garrett County, Maryland, and portions of Grant and Mineral Counties, West Virginia. The Corps'' environmental analyses have not identified any significant impacts associated with the proposed action, therefore, intent to prepare a DEIS is hereby terminated. The Corps is preparing a draft Environmental Assessment (EA) for the proposed environmental restoration. The draft EA will evaluate environmental effects of restoring riverine, wetland, and riparian habitat at three sites in the Upper North Branch Potomac watershed. The Maryland Department of the Environment is the cost-sharing partner and is participating in the Environmental Restoration Report and draft EA development. The West Virginia sponsors have decided to withdraw from the study at this time. The goal of this project is to provide site specific restoration measures to enhance, preserve, and restore portions of the watershed that have been degraded by abandoned mine lands. Formulation of the restoration measures focuses on examining existing conditions and determining the feasibility of restoring portions of degraded ecosystem structure, function, and dynamic processes to a less degraded condition.

FOR FURTHER INFORMATION CONTACT: Questions about the termination of the DEIS can be addressed to Mr. Peter Noy, Study Manager, Baltimore District, U.S. Army Corps of Engineers, ATTN: CENAB-PL-P, PO Box 1715, Baltimore, Maryland 21203-1715, telephone (410) 962-6100. E-mail address: peter.m.noy@usace.army.mil.

SUPPLEMENTARY INFORMATION: A DEIS was in the process of being prepared by the Corps. During the National Environmental Policy Act (NEPA) process, it became apparent that the set of alternatives chosen as the final restoration plan for the sites within Maryland did not produce any significant, long-term, or adverse impacts to the environment or its surroundings. Therefore, the DEIS process has been terminated. A draft feasibility report and draft EA have been prepared, and will be available for public review and comment.

John A. Hall,
Alternate Army Federal Register Liaison Officer.

[FR Doc. 00-9693 Filed 4-17-00; 8:45 am]

BILLING CODE 3710-41-M